DEPARTMENT OF THE INTERIOR

Bureau of Land Management

[UT-100-1430-03; UTU-78364]

Notice of Realty Action

AGENCY: Bureau of Land Management (BLM), Interior.

ACTION: Notice of realty action; Recreation and Public Purposes (R&PP) Act Classification; Utah.

SUMMARY: The following public land, located in Washington County, Utah, has been examined and found suitable for classification for lease or conveyance to the Northwestern Special Service District under the provision of the Recreation and Public Purposes Act. As amended (43 U.S.C. 869 et.seq.):

Salt Lake Meridian, Utah

T. 39 S., R. 16 W.,

Sec. 28, NE¼NE¼NW¼SW¼,

Containing 1.5 acres, more or less.

SUPPLEMENTARY INFORMATION: The Northwestern Special Service District proposes to use the land to construct, operate and maintain a fire station. The land is not needed for Federal purposes. Leasing or conveying title to the affected public land is consistent with current BLM land use planning and would be in the public interest.

The lease or patent, when issued, would be subject to the following terms, conditions, and reservations:

1. Provisions of the Recreation and Public Purposes Act and all applicable regulations of the Secretary of the Interior.

2. A right-of-way for ditches and canals constructed by the authority of the United States.

3. All minerals shall be reserved to the United States, together with the right to prospect for, mine, and remove the minerals.

4. Those rights for water well, water pipeline and road access purposes granted to Veyo Culinary Water Association by right-of-way U-74785.

5. Those rights for road access purposes granted to James Wilson by right-of-way U-71135.

Detailed information concerning this action is available at the office of the Bureau of Land Management, St. George Field Office, 345 E. Riverside Drive, St. George, Utah 84790. Upon publication of this notice in the Federal Register, the land will be segregated from all other forms of appropriation under the public land laws, including the general mining laws, except for leasing or conveyance under the Recreation and Public Purposes Act and leasing under the mineral leasing laws. For a period of 45 days from the date of publication of this notice in the Federal Register, interested persons may submit comments regarding the proposed classification, leasing or conveyance of the land to the Field Office Manager, St. George Field Office.

Classification Comments

Interested parties may submit comments involving the suitability of the lands for a fire station. Comments on the classification are restricted to whether the land is physically suited for the proposal, whether the use will maximize the future use or uses of the land, whether the use is consistent with local planning and zoning, or if the use is consistent with State and Federal programs.

Application Comments

Interested parties may submit comments regarding the specific use proposed in the Northwestern Special Service District's application, whether the BLM followed proper administrative procedures in reaching the decision, or any other factor not directly related to the suitability of the land for fire station purposes. Any adverse comments will be reviewed by the State Director. In the absence of any adverse comments, the classification will become effective 60 days from the date of publication of this notice.

Dated: January 10, 2003.
James D. Crisp
Field Office Manager.

[FR Doc. 03-3166 Filed 2-7-03; 8:45 am]

BILLING CODE 4310-$$-P